DEPARTMENT OF COMMERCE

International Trade Administration

Notice of Scope Rulings

AGENCY: Import Administration, International Trade Administration, Department of Commerce.

EFFECTIVE DATE: November 13, 2006.

SUMMARY: The Department of Commerce (the Department) hereby publishes a list of scope rulings completed between July 1, 2006, and September 30, 2006. In conjunction with this list, the Department is also publishing a list of requests for scope rulings and anticircumvention determinations pending as of September 30, 2006. We intend to publish future lists after the close of the next calendar quarter.

FOR FURTHER INFORMATION CONTACT: Alice Gibbons, AD/CVD Operations, Office 2, Import Administration, International Trade Administration, U.S. Department of Commerce, 14th Street and Constitution Avenue, NW, Washington, DC 20230; telephone: (202) 482-0498.

SUPPLEMENTARY INFORMATION:

Background

The Department's regulations provide that the Secretary will publish in the Federal Register a list of scope rulings on a quarterly basis. See 19 CFR 351.225(o). Our most recent “Notice of Scope Rulings” was published on July 28, 2006. See 71 FR 42807. The instant notice covers all scope rulings and anticircumvention determinations completed by Import Administration between July 1, 2006, and September 30, 2006, inclusive. It also lists any scope or anticircumvention inquiries pending as of September 30, 2006, as well as scope rulings inadvertently omitted from prior published lists. As described below, subsequent lists will follow after the close of each calendar quarter.

Scope Rulings Completed Between July 1, 2006 and September 30, 2006:

People's Republic of China

A-570-502: Iron Construction Castings from the People's Republic of China

Requestor: Unisource International, Inc.; its Polycast Series 700 Frame and Grate are not within the scope of the antidumping duty order; August 8, 2006.

A-570-504: Petroleum Wax Candles from the People's Republic of China

Requestor: Atico International, Inc.; its “Christmas Stocking Tealight,” “Halloween Novelty Ghost,” “Halloween Novelty JOL,” and “Halloween Novelty Frankenstein” candles are within the scope of the antidumping duty order; its “Halloween Novelty Pumpkin,” “Halloween Bloody Skull,” “Halloween Novelty Tombstone,” “Halloween Witch Shoe,” and “Santas Boot” candles are not within the scope of the antidumping duty order; July 6, 2006.

A-570-504: Petroleum Wax Candles from the People's Republic of China

Requestor: Freight Expediters; its “Small Artichoke” and “Large Artichoke,” “Small Pinecone” and “Large Pinecone,” “Cabbage” and “Radishes” candles are not within the scope of the antidumping duty order; July 21, 2006.

A-570-504: Petroleum Wax Candles from the People's Republic of China

Requestor: Kohl's Department Stores; its “Santa Head” candle, style no. L50050, is within the scope of the antidumping duty order; August 28, 2006.

A-570-504: Petroleum Wax Candles from the People's Republic of China

Requestor: Kohl's Department Stores; its “Berry Ball Candle,” style no. X5478, is within the scope of the antidumping duty order; September 5, 2006.

A-570-803: Heavy Forged Hand Tools, With or Without Handles, from the People's Republic of China

Requestor: Central Purchasing Co.; its gooseneck, claw and wrecking bars are not within the scope of the antidumping duty order; July 27, 2006.

A-570-890: Wooden Bedroom Furniture from the People's Republic of China

Requestor: Dorel Asia SrL; its infant (baby) changing tables with drawers or doors are within the scope of the antidumping duty order; its infant (baby) changing tables with no drawers or doors and with the flat top surface surrounded by a permanent guard rail, and its toddler beds are not within the scope of the antidumping duty order; August 11, 2006.

A-570-890: Wooden Bedroom Furniture from the People's Republic of China

Requestor: Drexel Heritage; its bathroom vanity is within the scope of the antidumping duty order; September 5, 2006.

Anticircumvention Determinations Completed Between July 1, 2006 and September 30, 2006:

People's Republic of China

A-570-504: Petroleum Wax Candles from the People's Republic of China

Requestor: National Candles Association; candles composed of petroleum wax and over fifty percent or more palm and/or other vegetable oil-based waxes are later-developed merchandise circumventing the antidumping duty order; September 29, 2006.

Scope Inquiries Terminated Between July 1, 2006 and September 30, 2006:

People's Republic of China

A-570-832: Pure Magnesium from the People's Republic of China

Requestor: U.S. Magnesium LLC; whether alloy magnesium produced in France using pure magnesium from the PRC is within the scope of the antidumping duty order; terminated August 31, 2006.

A-570-896: Magnesium Metal from the People's Republic of China

Requestor: U.S. Magnesium LLC; whether alloy magnesium produced in France using pure magnesium from the PRC is within the scope of the antidumping duty order; terminated August 31, 2006.

Scope Inquiries Pending as of September 30, 2006:

Italy

A-475-703: Granular Polytetrafluoroethylene Resin from Italy

Requestor: Petitioner, E.I. DuPont de Nemours & Company (DuPont); whether imports of Polymist® feedstock produced by the respondent, Solvay Solexis, Inc. and Solvay Solexis S.p.A (collectively, Solvay) are within the scope of the antidumping duty order; requested August 18, 2006; initiated October 2, 2006.

Japan

A-588-804: Ball Bearings and Parts Thereof from Japan

Requestor: Petitioner, Koyo Corporation of U.S.A. (Koyo); whether certain x-ray spindle units from Japan are within the scope of the antidumping duty order; requested July 9, 2006; initiated July 24, 2006.

People's Republic of China

A-570-502: Iron Construction Castings from the People's Republic of China

Requestor: A.Y. McDonald Manufacturing Company; whether its cast iron bases and upper bodies for meter boxes are within the scope of the antidumping duty order; requested July 7, 2006.

A-570-504: Petroleum Wax Candles from the People's Republic of China

Requestor: Avon Products, Inc.; whether its “Cupcake Candle,” product profile number 1041846, is within the scope of the antidumping duty order; requested August 16, 2006.

A-570-832: Pure Magnesium from the People's Republic of China

Requestor: U.S. Magnesium LLC; whether pure magnesium from the PRC processed in France into pure magnesium is within the scope of the antidumping duty order; preliminary ruling August 31, 2006.

A-570-832: Pure Magnesium from the People's Republic of China

Requestor: U.S. Magnesium LLC; whether alloy magnesium processed in Canada from pure magnesium ingots from the PRC is within the scope of the antidumping duty order; preliminary ruling August 31, 2006.

A-570-846: Brake Rotors from the People's Republic of China

Requestor: Federal-Mogul Corporation; whether its brake rotors that include an Original Equipment Manufacturer (“OEM”) logo in the casting and/or are certified by an OEM are within the scope of the antidumping duty order; requested August 14, 2006.

A-570-864: Pure Magnesium in Granular Form from the People's Republic of China

Requestor: ESM Group Inc.; whether pure magnesium ingots from the United States, atomized in the PRC, and returned to the United States are within the scope of the antidumping duty order; requested April 11, 2006.

A-570-878: Saccharin from the People's Republic of China

Requestor: PMC Specialties Group, Inc.; whether acid (insoluble) saccharin from the PRC converted in Israel into sodium saccharin, calcium saccharin or any other form of saccharin covered by the antidumping duty order on saccharin from the PRC remains within the scope of the antidumping duty order; preliminary ruling April 10, 2006.

A-570-882: Refined Brown Aluminum Oxide from the People's Republic of China

Requestor: 3M Company; whether certain semi-friable and heat-treated, specialty aluminum oxides are within the scope of the antidumping duty order; requested September 19, 2006.

A-570-886: Polyethylene Retail Carrier Bags from the People's Republic of China

Requestor: Consolidated Packaging LLP; whether 23 plastic bags it imports are within the scope of the antidumping duty order; requested April 19, 2006; initiated June 5, 2006.

A-570-890: Wooden Bedroom Furniture from the People's Republic of China

Requestor: American Signature, Inc.; whether its mirrored chest, leather bed, and microfiber bed are within the scope of the antidumping duty order; requested June 2, 2006.

A-570-890: Wooden Bedroom Furniture from the People's Republic of China

Requestor: Toys 'R Us, Inc.; whether its toy boxes are within the scope of the antidumping duty order; requested September 26, 2006.

A-570-890: Wooden Bedroom Furniture from the People's Republic of China

Requestor: Tuohy Furniture Corporation; whether its seventeen products that include storage towers (i.e., bathroom, housekeeping, and closet), headboards, wainscoting, wood panels, a TV stand, bedside tables, and coffee tables, are within the scope of the antidumping duty order; requested April 5, 2006.

A-570-896: Magnesium Metal from the People's Republic of China

Requestor: U.S. Magnesium LLC; whether alloy magnesium processed in Canada from pure magnesium ingots from the PRC is within the scope of the antidumping duty order; preliminary ruling August 31, 2006.

Russia

A-821-819: Magnesium Metal from Russia

Requestor: US Magnesium LLC; whether magnesium metal further processed in Canada and France is within the scope of the antidumping duty order; requested July 19, 2005; initiated September 2, 2005.

Anticircumvention Inquiries Terminated Between July 1, 2006 and September 30, 2006:

A-570-504: Petroleum Wax Candles from the People's Republic of China

Requestor: National Candles Association; whether candles composed of petroleum wax and over fifty percent or more palm and/or other vegetable oil-based waxes and have been subject to minor alterations are circumventing the antidumping duty order; terminated September 29, 2006.

Anticircumvention Rulings Pending as of September 30, 2006:

People's Republic of China

A-570-504: Petroleum Wax Candles from the People's Republic of China

Requestor: National Candle Association; whether candles assembled in the United States from molded or carved articles of wax (wax forms) from the PRC are circumventing the antidumping duty order; requested December 14, 2005; initiated May 11, 2006.

A-570-868: Folding Metal Tables and Chairs from the People's Republic of China

Requestor: Meco Corporation; whether the common leg table (a folding metal table affixed with cross bars that enable the legs to fold in pairs) produced in the PRC is a minor alteration that is circumventing the antidumping duty order; initiated June 1, 2006.

A-570-894: Certain Tissue Paper Products from the People's Republic of China

Requestor: Seaman Paper Company; whether imports of tissue paper from Vietnam made out of jumbo rolls of tissue paper from the PRC are circumventing the antidumping duty order; initiated September 5, 2006.

Scope Rulings Inadvertently Omitted from Prior Published Lists:

None.

Interested parties are invited to comment on the completeness of this list of pending scope and anticircumvention inquiries. Any comments should be submitted to the Deputy Assistant Secretary for AD/CVD Operations, Import Administration, International Trade Administration, 14th Street and Constitution Avenue, NW, Room 1870, Washington, DC 20230.

This notice is published in accordance with 19 CFR 351.225(o).

Dated: November 6, 2006.
Stephen J. Claeys,
Deputy Assistant Secretary for Import Administration.

[FR Doc. E6-19111 Filed 11-9-06; 8:45 am]

BILLING CODE 3510-DS-S